DEPARTMENT OF HEALTH AND HUMAN SERVICES

Food and Drug Administration

[Docket No. FDA-2025-D-5715]

Cross-Center Master Files: Where To Submit; Draft Guidance for Industry; Availability

AGENCY: Food and Drug Administration, HHS.

ACTION: Notice of availability.

SUMMARY: The Food and Drug Administration (FDA, Agency, or we) is announcing the availability of a draft guidance for industry entitled “Cross-Center Master Files: Where to Submit.” The draft guidance provides recommendations to industry, specifically master file holders, regarding where (i.e., to which FDA center) to submit a master file that is referenced in and intended to support more than one regulatory submission for which the lead center for those submissions may vary or where the information in the master file may need to be accessed and reviewed by more than one center to support review of the referencing submission(s). The recommendations apply to master files submitted to the Center for Biologics Evaluation and Research (CBER), the Center for Drug Evaluation and Research (CDER), the Center for Devices and Radiological Health (CDRH), and certain types of master files submitted to the Center for Veterinary Medicine (CVM).

DATES: Submit either electronic or written comments on the draft guidance by February 24, 2026 to ensure that the Agency considers your comment on this draft guidance before it begins work on the final version of the guidance.

ADDRESSES: You may submit comments on any guidance at any time as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2025-D-5715 for “Cross-Center Master Files: Where to Submit.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

You may submit comments on any guidance at any time (see 21 CFR 10.115(g)(5)).

Submit written requests for single copies of the draft guidance to the Office of Combination Products, Food and Drug Administration, 10903 New Hampshire Ave., Bldg. 32, Rm. 5129, Silver Spring, MD 20993-0002. Send one self-addressed adhesive label to assist that office in processing your requests. See the SUPPLEMENTARY INFORMATION section for electronic access to the draft guidance document.

FOR FURTHER INFORMATION CONTACT: Stephanie Shapley, Office of Combination Products/Office of the Chief Medical Officer, Food and Drug Administration, 10903 New Hampshire Ave., Bldg. 32, Rm. 5129, Silver Spring, MD 20993, 301-796-4836, stephanie.shapley@fda.hhs.gov or combination@fda.gov.

SUPPLEMENTARY INFORMATION:

I. Background

FDA is announcing the availability of a draft guidance for industry entitled “Cross-Center Master Files: Where to Submit.” The draft guidance provides recommendations to master file holders regarding where (i.e., to which center) to submit a master file: (1) that is referenced in and intended to support more than one regulatory submission for which the lead center for those submissions may vary, or (2) where the information in the master file may need to be accessed and reviewed by more than one center to support review of the referencing submission(s). When a master file would be accessed by more than one center, it is referred to as a cross-center master file. The recommendations in this draft guidance apply to master files submitted to CBER, CDER, CDRH, and to master files submitted to CVM other than CVM veterinary master file types VI, VII, and VIII and their Public Master Files. The recommendations, once finalized, are for new master file submissions going forward.

Master files are voluntary submissions to FDA used to provide confidential, detailed information about facilities, processes, or articles used in the manufacturing, processing, packaging, and storing of one or more FDA-regulated biological products, drugs, devices, or combination products. Master files can contain other types of information as well (e.g., nonclinical evaluations such as toxicology information, shared system risk evaluation and mitigation strategy).

The draft guidance provides background on master files, including examples of scenarios in which staff from more than one center might access and review the master file; recommendations for determining the hosting center for a master file for combination products and for non-combination products; and hypothetical examples to illustrate the recommendations for determining the hosting center. These recommendations are intended to help master file holders to determine which center to submit their master file. In turn, this may help master file holders identify any center-specific master file submission recommendations applicable to their situation.

This draft guidance is being issued consistent with FDA's good guidance practices regulation (21 CFR 10.115). The draft guidance, when finalized, will represent the current thinking of FDA on “Cross-Center Master Files: Where to Submit.” It does not establish any rights for any person and is not binding on FDA or the public. You can use an alternative approach if it satisfies the requirements of the applicable statutes and regulations.

As we develop final guidance on this topic, FDA will consider comments on costs or cost savings the guidance may generate, relevant for Executive Order 14192.

II. Paperwork Reduction Act of 1995

While this draft guidance contains no collection of information, it does refer to previously approved FDA collections of information. The previously approved collections of information are subject to review by the Office of Management and Budget (OMB) under the Paperwork Reduction Act of 1995 (PRA) (44 U.S.C. 3501-3521). The collections of information in 21 CFR part 314 relating to the submission of drug master files, new drug applications, and abbreviated new drug applications have been approved under OMB control number 0910-0001. The collections of information in 21 CFR part 312 relating to the submission of investigational new drug applications have been approved under OMB control number 0910-0014. The collections of information in 21 CFR part 601 relating to the submissions of biologics licensed applications have been approved under OMB control number 0910-0338. The collections of information in 21 CFR part 514 relating to the submission of veterinary drug master files have been approved under OMB control number 0910-0032. The collections of information in 21 CFR part 511 relating to the submission of new animal drugs for investigational use have been approved under OMB control number 0910-0117. The collections of information in 512(n)(1) of the Federal Food, Drug, and Cosmetic Act (21 U.S.C. 360b(n)(1)) relating to the submission of an Abbreviated New Animal Drug Application have been approved under OMB control number 0910-0669. The collections of information in 21 CFR part 820 relating to device master files have been approved under OMB control number 0910-0073; the collections of information in 21 CFR part 812 relating to IDE submissions are approved under OMB control number 0910-0078; the collections of information in 21 CFR part 807, subpart E, relating to 510(k) submissions are approved under OMB control number 0910-0120; the collections of information in 21 CFR part 814, subparts A through E, relating to premarket approval, are approved under OMB control number 0910-0231; and the collections of information in 21 CFR part 860, subpart D, relating to De Novo requests are approved under OMB control number 0910-0844.

III. Electronic Access

Persons with access to the internet may obtain the draft guidance at https://www.fda.gov/drugs/guidance-compliance-regulatory-information/guidances-drugs, https://www.fda.gov/regulatory-information/search-fda-guidance-documents, or https://www.regulations.gov.

Lowell M. Zeta,
Acting Deputy Commissioner for Policy, Legislation, and International Affairs.

[FR Doc. 2025-21224 Filed 11-25-25; 8:45 am]

BILLING CODE 4164-01-P